DEPARTMENT OF TRANSPORTATION

Federal Aviation Administration

Notice of the Posting of Draft Technical Analyses Data and Other Documentation for the O'Hare Modernization Environmental Impact Statement, Chicago O'Hare International Airport, Chicago, IL

AGENCY: Federal Aviation Administration, DOT.

ACTION: Notice.

SUMMARY: The Federal Aviation Administration (FAA) gives notice of the availability of draft Technical Analyses Data and other documentation being used as part of the O'Hare Modernization Environmental Impact Statement (EIS) for Chicago O'Hare International Airport, Chicago, Illinois. In support of the planning and environmental analyses of the O'Hare Modernization EIS, the FAA is using computer simulation modeling. The computer modeling includes Delay and Travel Time Analysis, Noise Analysis, Air Quality Analysis, and Surface Transportation Analysis. As this data becomes available in draft final form, the FAA will post the various components of each analysis such as the assumptions, project files, and supporting material used in the modeling efforts. This information can be found at http://www.agl.faa.gov/OMP/EISTechSim/TechSim.htm.

This information is being provided to facilitate early involvement of the public in the EIS process. The FAA plans to post over five million pages of data, and other EIS related documentation prior to the release of the Draft EIS. Other EIS related documentation is also available on the following Web sites: http://www.agl.faa.gov/omp and http://www.ompeis.net.

DATES: Effective Date: July 27, 2004.

FOR FURTHER INFORMATION CONTACT: Barry Cooper, Manager, Chicago Area Modernization Program Office, Great Lakes Region, 2300 East Devon Avenue, Des Plaines, IL 60018; Telephone: (847) 294-7369, fax: (847) 294-8157, Internet: ompeis@faa.gov.

Issued in Des Plaines, Illinois on September 13, 2004.
Barry Cooper,
Manager, Chicago Area Modernization Program Office, Great Lakes Region.

[FR Doc. 04-21866 Filed 9-28-04; 8:45 am]

BILLING CODE 4910-13-M